DEPARTMENT OF LABOR

Employment and Training Administration

[TA-W-61,414]

Mercury Marine Division of Brunswick Corporation Including On-Site Leased Workers From Westaff (USA), Inc. and Aerotek, Fond Du Lac, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 8, 2007, applicable to workers of Mercury Marine, Division of Brunswick Corporation, Fond du Lac, Wisconsin. The notice was published in the Federal Register on June 22, 2007 (72 FR 34482).

At the request of the State agency, the Department reviewed the certification for workers of the subject firm. The workers are engaged in the production of marine outboard engines.

New information shows that workers leased from Westaff (USA), Inc. and Aerotek were employed on-site at the Fond du Lac, Wisconsin location of Mercury Marine, Division of Brunswick Corporation. The Department has determined that these workers were sufficiently under the control of Mercury Marine, Division of Brunswick Corporation to be considered leased workers.

Based on these findings, the Department is amending this certification to include workers leased from Westaff (USA), Inc. and Aerotek working on-site at the Fond du Lac, Wisconsin location of the subject firm.

The intent of the Department's certification is to include all workers employed at Mercury Marine, Division of Brunswick Corporation, Fond du Lac, Wisconsin who were adversely affected by increased imports following a shift in production of marine outboard engines to China and Japan.

The amended notice applicable to TA-W-61,414 is hereby issued as follows:

All workers of Mercury Marine, Division of Burnswick Corporation, including on-site leased workers from Westaff (USA), Inc. and Aerotek, Fond du Lac, Wisconsin, who became totally or partially separated from employment on or after April 23, 2006 through June 8, 2009 are eligible to apply for adjustment assistance under Section 223 of the Trade Act of 1974, and are also eligible to apply for alternative trade adjustment assistance under Section 246 of the Trade Act of 1974.

Signed at Washington, DC this 28th day of January 2009.
Elliott S. Kushner,
Certifying Officer, Division of Trade Adjustment Assistance.

[FR Doc. E9-2733 Filed 2-9-09; 8:45 am]

BILLING CODE 4510-FN-P